DEPARTMENT OF THE INTERIOR

Bureau of Land Management

[LLCAN00000.L18200000.XZ0000]

Notice of Public Meeting: Northeast California Resource Advisory Council Subcommittee

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council's wild horse and burro management subcommittee will meet as indicated below.

DATES: The subcommittee will meet Monday, March 28, 2011, at 1 p.m., at the Bureau of Land Management Alturas Field Office, 708 West 12th St., Alturas, California.

FOR FURTHER INFORMATION CONTACT: Nancy Haug, BLM Northern California District manager, (530) 224-2160; or Joseph J. Fontana, BLM public affairs officer, (530) 252-5332.

SUPPLEMENTARY INFORMATION: The 15-member council advises the Secretary of the Interior, through the BLM, on a variety of planning and management issues associated with public land management in northeast California and the northwest corner of Nevada. At the meeting the council wild horse and burro management subcommittee members will discuss the BLM's recently announced reforms to the Wild Horse and Burro Program. Members of the public are welcome.

Individuals who plan to attend and need special assistance, such as sign language interpretation and other reasonable accommodations, should contact the BLM as provided above.

Dated: June 14, 2010.
Joseph J. Fontana,
Public Affairs Officer.

[FR Doc. 2011-6635 Filed 3-21-11; 8:45 am]

BILLING CODE 4310-40-P